DEPARTMENT OF TRANSPORTATION

Federal Aviation Administration

14 CFR Part 39

[Docket No. FAA-2024-2715; Project Identifier MCAI-2024-00621-T; Amendment 39-22919; AD 2024-26-04]

RIN 2120-AA64

Airworthiness Directives; Airbus SAS Airplanes

AGENCY: Federal Aviation Administration (FAA), DOT.

ACTION: Final rule; request for comments.

SUMMARY: The FAA is superseding Airworthiness Directive (AD) 2023-09-01, which applied to all Airbus SAS Model A318 series airplanes; Model A319 series airplanes; Model A320-211, -212, -214, -216, -231, -232, -233, -251N, -252N, -253N, -271N, -272N, and -273N airplanes; and Model A321 series airplanes. AD 2023-09-01 was prompted by a report that certain overheat detection system (OHDS) sensing elements installed at certain positions might not properly detect thermal bleed leak events due to a quality escape during the manufacturing process. AD 2023-09-01 required a one-time detailed inspection of each affected part installed at an affected position and replacement if necessary and prohibited the installation of affected parts at affected positions. Since the FAA issued AD 2023-09-01, a new airplane model (A321-253NY) has been certified by EASA, on which affected parts could be installed in service. This AD continues to require the actions in AD 2023-09-01, and revises the applicability to include Model A321-253NY airplanes, as specified in a European Union Aviation Safety Agency (EASA) AD, which is incorporated by reference. The FAA is issuing this AD to address the unsafe condition on these products.

DATES: This AD is effective February 18, 2025.

The Director of the Federal Register approved the incorporation by reference of a certain publication listed in this AD as of February 18, 2025.

The Director of the Federal Register approved the incorporation by reference of certain other publications listed in this AD as of June 26, 2023 (88 FR 32628, May 22, 2023).

The FAA must receive comments on this AD by March 17, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2715; or in person at Docket Operations between 9 a.m. and 5 p.m., Monday through Friday, except Federal holidays. The AD docket contains this final rule, the mandatory continuing airworthiness information (MCAI), any comments received, and other information. The street address for Docket Operations is listed above.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• For Kidde Aerospace & Defense material identified in this AD, contact Kidde Aerospace & Defense, 4200 Airport Drive NW, Wilson, NC 27896; phone: 252-246-7134; fax: 252-246-7181; email: avionicssupport@collins.com; website kiddeaerospace.com.

• You may view this material at the FAA, Airworthiness Products Section, Operational Safety Branch, 2200 South 216th St., Des Moines, WA. For information on the availability of this material at the FAA, call 206-231-3195. It is also available at regulations.gov under Docket No. FAA-2024-2715.

FOR FURTHER INFORMATION CONTACT: Dan Rodina, Aviation Safety Engineer, FAA, 1600 Stewart Avenue, Suite 410, Westbury, NY 11590; telephone 206-231-3225; email dan.rodina@faa.gov.

SUPPLEMENTARY INFORMATION:

Comments Invited

The FAA invites you to send any written data, views, or arguments about this final rule. Send your comments to an address listed under the ADDRESSES section. Include “Docket No. FAA-2024-2715; Project Identifier MCAI-2024-00621-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan Rodina, Aviation Safety Engineer, FAA, 1600 Stewart Avenue, Suite 410, Westbury, NY 11590; telephone 206-231-3225; email dan.rodina@faa.gov. Any commentary that the FAA receives which is not specifically designated as CBI will be placed in the public docket for this rulemaking.

Background

The FAA issued AD 2023-09-01, Amendment 39-22424 (88 FR 32628, May 22, 2023) (AD 2023-09-01), for all Airbus SAS Model A318 series airplanes; Model A319 series airplanes; Model A320-211, -212, -214, -216, -231, -232, -233, -251N, -252N, -253N, -271N, -272N, and -273N airplanes; and Model A321 series airplanes. AD 2023-09-01 was prompted by an MCAI originated by EASA, which is the Technical Agent for the Member States of the European Union. EASA issued AD 2022-0147, dated July 14, 2022; corrected August 17, 2022 (EASA 2022-0147), to correct an unsafe condition.

AD 2023-09-01 was prompted by a report from the affected part manufacturer, Kidde Aerospace & Defense, that certain OHDS sensing elements, produced before January 31, 2021, may not properly detect thermal bleed leak events due to a quality escape during the manufacturing process. AD 2023-09-01 required a one-time detailed inspection of each affected part installed at an affected position (i.e., a position identified as functional item number (FIN) 34HF, FIN 35HF, FIN 61HF or FIN 62HF) and replacement as applicable and prohibited the installation of affected parts at affected positions. The FAA issued AD 2023-09-01 to address overheat detection system (OHDS) sensing elements that do not properly detect thermal bleed leak events, which could result in an air leak remaining undetected by the OHDS at an affected position and not being isolated during flight, possibly resulting in localized areas of the main landing gear bay and keel beam being exposed to high temperatures, and consequent reduced structural integrity of the airplane.

Actions Since AD 2023-09-01 Was Issued

Since the FAA issued AD 2023-09-01, EASA superseded EASA AD 2022-0147 and issued EASA AD 2024-0196, dated October 18, 2024 (EASA AD 2024-0196) (also referred to as the MCAI), to correct an unsafe condition for all Airbus SAS Model A318 series airplanes; Model A319 series airplanes; Model A320-211, -212, -214, -215, -216, -231, -232, -233, -251N, -252N, -253N, -271N, -272N, and -273N airplanes; and Model A321-111, A321-112, A321-131, A321-211, A321-212, A321-213, A321-231, A321-232, A321-251N, A321-251NX, A321-252N, A321-252NX, A321-253N, A321-253NX, A321-253NY, A321-271N, A321-271NX, A321-272N and A321-272NX airplanes. Model A320-215 airplanes are not certificated by the FAA and are not included on the U.S. type certificate data sheet; this AD therefore does not include those airplanes in the applicability. The MCAI states a new airplane model (A321-253NY) has been certified by EASA. Affected parts could be installed on Model A321-253NY airplanes in service, even though as of the issue date of EASA AD 2024-0196, no A321-253NY have been delivered to operators. EASA AD 2024-0196 extends the applicability to model A321-253NY airplanes and prohibits installation of affected parts on those airplanes in service. The FAA has certificated this model and added it to the U.S. type certificate data sheet. Therefore, this AD includes Model A321-253NY airplanes.

The FAA is issuing this AD to address OHDS sensing elements that do not properly detect thermal bleed leak events. The unsafe condition, if not addressed, could result in an air leak remaining undetected by the OHDS at an affected position and not being isolated during flight, possibly resulting in localized areas of the main landing gear bay and keel beam being exposed to high temperatures, and consequent reduced structural integrity of the airplane. You may examine the MCAI in the AD docket at regulations.gov under Docket No. FAA-2024-2715.

Explanation of Retained Requirements

Although this AD does not explicitly restate the requirements of AD 2023-09-01, this AD retains all of the requirements of AD 2023-09-01. Those requirements are referenced in EASA AD 2024-0196, which, in turn, is referenced in paragraph (g) of this AD.

Material Incorporated by Reference Under 1 CFR Part 51

EASA AD 2024-0196 specifies procedures for a one-time special detailed inspection (SDI) of each OHDS sensing element installed at an affected position to detect discrepancies (an incorrect electronic centralized aircraft monitor (ECAM) alert (one not related to AIR L WING LEAK) being displayed following the inspection of any OHDS sensing element), and depending on findings, replacement of any affected part with a serviceable part. EASA AD 2024-0196 also prohibits the installation of affected parts at affected positions. For airplanes previously affected by EASA AD 2022-0147, EASA AD 2024-0196 retains the requirements of that AD, with no additional actions.

This AD also requires Kidde Aerospace & Defense Service Bulletin CFD-26-3, dated January 13, 2022; and Revision 1, dated March 29, 2022; which the Director of the Federal Register approved for incorporation by reference as of June 26, 2023 (88 FR 32628, May 22, 2023).

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and material referenced above. The FAA is issuing this AD after determining that the unsafe condition described previously is likely to exist or develop on other products of the same type design.

Requirements of This AD

This AD requires accomplishing the actions specified in EASA AD 2024-0196 described previously, except for any differences identified as exceptions in the regulatory text of this AD. This AD also revises the applicability to include Model A321-253NY airplanes. This AD also prohibits the installation of affected parts.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2024-0196 is incorporated by reference in this AD. This AD requires compliance with EASA AD 2024-0196 in its entirety through that incorporation, except for any differences identified as exceptions in the regulatory text of this AD. Using common terms that are the same as the heading of a particular section in EASA AD 2024-0196 does not mean that operators need comply only with that section. For example, where the AD requirement refers to “all required actions and compliance times,” compliance with this AD requirement is not limited to the section titled “Required Action(s) and Compliance Time(s)” in EASA AD 2024-0196. Material required by EASA AD 2024-0196 for compliance will be available at regulations.gov under Docket No. FAA-2024-2715 after this AD is published.

FAA's Justification and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are currently no domestic operators of Model A321-253NY airplanes. There are also no new requirements for the other affected models as the EASA AD and this AD are only adding a model to the applicability. Accordingly, notice and opportunity for prior public comment are unnecessary, pursuant to 5 U.S.C. 553(b). In addition, for the foregoing reason(s), the FAA finds that good cause exists pursuant to 5 U.S.C. 553(d) for making this amendment effective in less than 30 days.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

Currently, there are no affected U.S.-registered Model A321-253NY airplanes. However, for airplanes affected by AD 2023-09-01, and for any affected airplane that is imported and placed on the U.S. Register in the future, the FAA provides the following cost estimates to comply with this AD:

Estimated Costs for Required Actions
Labor cost | Parts cost | Cost per product
6 work-hours × $85 per hour = $510 | $0 | $510

The FAA estimates the following costs to do any necessary on-condition action that would be required based on the results of any required actions. The FAA has no way of determining the number of aircraft that might need this on-condition action:

Estimated Costs of On-Condition Actions
Labor cost | Parts cost | Cost per product
1 work-hour × $85 per hour = $85 | $1,645 | $1,730 (per OHDS sensing element).

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-09-01, Amendment 39-22424 (88 FR 32628, May 22, 2023) (AD 2023-09-01); and

b. Adding the following new AD:

2024-26-04 Airbus SAS: Amendment 39-22919; Docket No. FAA-2024-2715; Project Identifier MCAI-2024-00621-T.

(a) Effective Date

This airworthiness directive (AD) is effective February 18, 2025.

(b) Affected ADs

This AD replaces AD 2023-09-01, Amendment 39-22424 (88 FR 32628, May 22, 2023) (AD 2023-09-01).

(c) Applicability

This AD applies to all Airbus SAS airplanes, certificated in any category, as identified in paragraphs (c)(1) through (4) of this AD.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -253NY, -271NX, and -272NX airplanes.

(d) Subject

Air Transport Association (ATA) of America Code 36, Pneumatic.

(e) Unsafe Condition

This AD was prompted by a report that certain overheat detection system (OHDS) sensing elements installed at certain positions might not properly detect thermal bleed leak events due to a quality escape during the manufacturing process. This AD was also prompted by a determination that affected parts could be installed on Model A321-253NY airplanes in service. The FAA is issuing this AD to address OHDS sensing elements that do not properly detect thermal bleed leak events. The unsafe condition, if not addressed, could result in an air leak remaining undetected by the OHDS at an affected position and not being isolated during flight, possibly resulting in localized areas of the main landing gear bay and keel beam being exposed to high temperatures, and consequent reduced structural integrity of the airplane.

(f) Compliance

Comply with this AD within the compliance times specified, unless already done.

(g) Requirements

Except as specified in paragraph (h) of this AD: Comply with all required actions and compliance times specified in, and in accordance with, European Union Aviation Safety Agency (EASA) AD 2024-0196, dated October 18, 2024 (EASA AD 2024-0196).

(h) Exceptions to EASA AD 2024-0196

(1) Where EASA AD 2024-0196 refers to July 28, 2022 (the effective date of EASA AD 2022-0147), this AD requires using June 26, 2023 (the effective date of AD 2023-09-01).

(2) Where EASA AD 2024-0196 refers to its effective date, this AD requires using the effective date of this AD.

(3) Where EASA AD 2024-0196 defines “Affected part” and identifies part numbers and corresponding date codes as those “listed in Section 1.A of the VSB,” for this AD, those part numbers and corresponding date codes are listed in Section 1.A. of Kidde Aerospace & Defense Service Bulletin CFD-26-3, dated January 13, 2022; or Revision 1, dated March 29, 2022. The date codes listed in Section 1.A. of Kidde Aerospace & Defense Service Bulletin CFD-26-3, dated January 13, 2022; and Revision 1, dated March 29, 2022; do not apply to parts produced prior to November 24, 2004, or after January 31, 2021.

(4) Where EASA AD 2024-0196 defines a serviceable part as “Any OHDS sensing element, eligible for installation in accordance with Airbus instructions, that is not an affected part,” for this AD replace that text with “Any OHDS sensing element, eligible for installation, that is not an affected part.”

(5) Where paragraph (2) of EASA AD 2024-0196 refers to “any discrepancy as defined in the SB,” for this AD, a discrepancy is an incorrect electronic centralized aircraft monitor (ECAM) alert (one not related to AIR L WING LEAK) being displayed following the inspection of any OHDS sensing element.

(6) Where the service information referenced in EASA AD 2024-0196 specifies to send an affected part to the manufacturer, this AD does not include that requirement.

(7) This AD does not adopt the “Remarks” section of EASA AD 2024-0196.

(i) No Reporting Requirement

Although the service information referenced in EASA AD 2024-0196 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the Manager, AIR-520, Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety, FAA; or EASA; or Airbus SAS's EASA Design Organization Approval (DOA). If approved by the DOA, the approval must include the DOA-authorized signature.

(3) Required for Compliance (RC): Except as required by paragraph (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Dan Rodina, Aviation Safety Engineer, FAA, 1600 Stewart Avenue, Suite 410, Westbury, NY 11590; telephone 206-231-3225; email dan.rodina@faa.gov.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on February 18, 2025.

(i) European Union Aviation Safety Agency (EASA) AD 2024-0196, dated October 18, 2024.

(ii) [Reserved]

(4) The following material was approved for IBR on June 26, 2023 (88 FR 32628, May 22, 2023).

(i) Kidde Aerospace & Defense Service Bulletin CFD-26-3, dated January 13, 2022.

(ii) Kidde Aerospace & Defense Service Bulletin CFD-26-3, Revision 1, dated March 29, 2022.

(5) For EASA material identified in this AD, contact EASA, Konrad-Adenauer-Ufer 3, 50668 Cologne, Germany; telephone +49 221 8999 000; email ADs@easa.europa.eu; website easa.europa.eu. You may find this material on the EASA website at ad.easa.europa.eu.

(6) For Kidde Aerospace & Defense material identified in this AD, contact Kidde Aerospace & Defense, 4200 Airport Drive NW, Wilson, NC 27896; phone: 252-246-7134; email: avionicssupport@collins.com; website kiddeaerospace.com.

(7) You may view this material at the FAA, Airworthiness Products Section, Operational Safety Branch, 2200 South 216th St., Des Moines, WA. For information on the availability of this material at the FAA, call 206-231-3195.

(8) You may view this material at the National Archives and Records Administration (NARA). For information on the availability of this material at NARA, visit www.archives.gov/federal-register/cfr/ibr-locations or email fr.inspection@nara.gov.

Issued on December 20, 2024.
Suzanne Masterson,
Deputy Director, Integrated Certificate Management Division, Aircraft Certification Service.

[FR Doc. 2025-02039 Filed 1-30-25; 8:45 am]

BILLING CODE 4910-13-P